DEPARTMENT OF COMMERCE

International Trade Administration

[C-580-875, C-557-817, C-523-809, C-583-855, C-552-819]

Certain Steel Nails From the Republic of Korea, Malaysia, the Sultanate of Oman, Taiwan, and the Socialist Republic of Vietnam: Postponement of Preliminary Determinations in the Countervailing Duty Investigations

AGENCY: Enforcement and Compliance, International Trade Administration, Department of Commerce.

FOR FURTHER INFORMATION CONTACT: Ilissa Kabak Shefferman at (202) 482-4684 or Angelica Mendoza at (202) 482-3019 (Malaysia, Vietnam and Taiwan), Office VI; Erin Kearney at (202) 482-0167 or Dana Mermelstein at (202) 482-1391 (Korea) and Trisha Tran at (202) 482-4852 (Oman), Office IV; Enforcement and Compliance, International Trade Administration, Department of Commerce, 14th Street and Constitution Avenue NW., Washington, DC 20230.

SUPPLEMENTARY INFORMATION:

Background

On June 18, 2014, the Department of Commerce (the Department) initiated countervailing duty investigations on certain steel nails from India, the Republic of Korea, Malaysia, the Sultanate of Oman, Taiwan, the Republic of Turkey and the Socialist Republic of Vietnam.¹ Currently, the preliminary determinations are due no later than August 22, 2014.

¹ See Certain Steel Nails from India, the Republic of Korea, Malaysia, the Sultanate of Oman, Taiwan, the Republic of Turkey, and the Socialist Republic of Vietnam: Initiation of Countervailing Duty Investigations, 79 FR 36014 (June 25, 2014). Due to the negative preliminary determinations by the U.S. International Trade Commission with respect to imports from India and Republic of Turkey, the CVD investigations have been terminated with respect to both countries.

Postponement of the Preliminary Determinations

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On July 28, 2014, Petitioner ² submitted a timely request pursuant to section 703(c)(1)(A) of the Act and 19 CFR 351.205(e) to postpone these preliminary determinations.³ Therefore, in accordance with section 703(c)(1)(A) of the Act, we are fully extending the due date for the preliminary determinations to not later than 130 days after the day on which these investigations were initiated. As a result, the deadline for completion of these preliminary determinations is now October 27, 2014.⁴

² Mid Continent Steel & Wire, Inc. (Petitioner).

³ See various letters from Petitioner, entitled “Certain Steel Nails from the Republic of Korea, Malaysia, the Sultanate of Oman, Taiwan, and the Socialist Republic of Vietnam: Petitioner's Request for Postponement of Preliminary Determinations,” dated July 28, 2014.

⁴ The actual deadline based on a 65-day extension is October 26, 2014, which is a Sunday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: July 31, 2014.
Paul Piquado,
Assistant Secretary for Enforcement and Compliance.

[FR Doc. 2014-18718 Filed 8-6-14; 8:45 am]

BILLING CODE 3510-DS-P